ENVIRONMENTAL PROTECTION AGENCY

[OPP-2004-0043; FRL-7363-9]

Chlorpyrifos-methyl; Amendment to the Tolerance Reassessment and Risk Management Decision and Notice of Receipt of Request for Registration Cancellation

AGENCY: Environmental Protection Agency (EPA).

ACTION: Notice.

SUMMARY: In accordance with section 6(f)(1) of the Federal Insecticide, Fungicide, and Rodenticide Act (FIFRA), as amended, EPA is modifying the terms of the voluntary cancellation notice published in the Federal Register on April 24, 2002 (FR 67 20118) (FRL-6773-1), for three pesticide products containing the active ingredient chlorpyrifos-methyl based on data received from the registrants and comments and information received from the United States Department of Agriculture (USDA). EPA proposes to extend the effective cancellation for two products (Gustafson Reldan 4E Insecticide, registration number 7501-41; and Reldan 4E, registration number 62719-43) to December 31, 2004. The technical registration Reldan F Insecticidal, registration number 62719-42 will be maintained.

DATES: The cancellations are effective on December 31, 2004, unless the Agency receives a written withdrawal request on or before January 3, 2005. The Agency will consider withdrawal requests postmarked no later than January 3, 2005.

Users of these products who desire continued use should contact the applicable registrant on or before January 3, 2005.

ADDRESSES: Written withdrawal requests may be submitted electronically, by mail, or through hand delivery/courier. Follow the detailed instructions as provided in Unit I. of the SUPPLEMENTARY INFORMATION. To ensure proper receipt by EPA, it is imperative that you identify docket identification (ID) number OPP-2004-0043 in the subject line on the first page of your response.

FOR FURTHER INFORMATION CONTACT: Katie Hall, Special Review and Reregistration Division (7508C), Office of Pesticide Programs, Environmental Protection Agency, 1200 Pennsylvania Ave., NW., Washington, DC 20460-0001; telephone number: (703) 308-0166; e-mail address: hall.katie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket ID number OPP-2004-0043. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

II. How Can I Respond to this Action?

A. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2004-0043. The system is an “anonymous access” system, which means EPA will not know your identity, e-mail address, or other contact information unless you provide it in the body of your comment.

ii. E-mail. Comments may be sent by e-mail to opp-docket@epa.gov, Attention: Docket ID Number OPP-2004-0043. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2004-0043.

3. By hand delivery or courier. Deliver your comments to: Public Information and Records Integrity Branch (PIRIB), Office of Pesticide Programs (OPP), Environmental Protection Agency, Rm. 119, Crystal Mall #2, 1801 S. Bell St., Arlington, VA, Attention: Docket ID Number OPP-2004-0043. Such deliveries are only accepted during the docket's normal hours of operation as identified in Unit I.B.1.

III. What Action is the Agency Taking?

This notice amends the notice of receipt that was published on April 24, 2002 (FR 67 20118) (FRL-6773-1), for three pesticide products containing chlorpyrifos-methyl based on comments and information received from USDA and stakeholders.

A. Background

The Agency's 2001 Tolerace Reassessment and Risk Management Decision (TRED) on chlorpyrifos-methyl provided a phase-out of chlorpyrifos-methyl containing products. Under the phase-out schedule, the registrants could sell and distribute this product through December 31, 2003, and the last use date was expected to be December 31, 2004. The Agency recognized the importance of chlorpyrifos-methyl for grain storage, and allowed for a phase-out in order to transition to alternative means of pest control. As a condition of the phase-out, EPA required additional studies to better characterize risk associated with chlorpyrifos-methyl, and the registrants provided an acute delayed neurotoxicity study, and a 2-generation rat reproduction study.

The Agency has reconsidered the toxicity data gaps identified in the chlorpyrifos-methyl toxicology chapter of the TRED dated April 17, 2000. The Agency considered the use of data from a related chemical, chlorpyrifos-ethyl, to address data gaps for chlorpyrifos-methyl. EPA concluded that chlorpyrifos-methyl is likely to be less toxic than chlorpyrifos-ethyl based on a side-by-side comparison of cholinesterase inhibition levels in existing studies. EPA has also concluded that given the structural similarities between the two chemicals, toxicity data using chlorpyrifos-ethyl could be used to address data gaps for chlorpyrifos-methyl.

The Agency will extend the phase-out of chlorpyrifos-methyl containing end use products through December 2004. Accordingly, the last date for sales and distribution of chlorpyrifos-methyl containing end use products by registrants is December 31, 2004, and the last date for sales and distribution by distributors and dealers of chlorpyrifos-methyl containing end use products is December 31, 2005.

The amended registration cancellations are listed in Table 1 of this unit by registration number, product name/active ingredient, intended sales and distribution end date.

Table 1.—Registrations With Requests for Amendments to Product Cancellation Dates in Certain Pesticide Registrations
EPA Registration No. | Product Name | Active Ingredient | Intended Product Cancellation Date
7501-41 | Gustafson Reldan 4E (43.2%) Insecticide | Chlorpyrifos-methyl | December 31, 2004
62719-42 | Reldan F Insecticidal (97.0%) | Chlorpyrifos-methyl | Not Applicable
62719-43 | Reldan 4E (43.2%) | Chlorpyrifos-methyl | December 31, 2004

Users of these products who desire continued use should contact the applicable registrant before January 3, 2005, to discuss withdrawal of the application for amendment. This 180-day period will also permit interested members of the public to intercede with registrants prior to the Agency's approval of the deletion.

Table 2 of this unit includes the names and addresses of record for all registrants of the products in Table 1 of this unit.

Table 2.—Registrants Requesting Amendments to Delete Uses in Certain Pesticide Registrations
EPA Company No. | Company Name and Address
7501 | Gustafson, LLC 1400 Preston Road, Suite 400, Plano, TX 75093
62719 | Dow Agrosciences, LLC 9330 Zionsville Road, Indianapolis, IN 46268

IV. What is the Agency Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

V. Procedures for Withdrawal of Request

Registrants who choose to withdraw a request for use deletion must submit the withdrawal in writing to Katie Hall using the instructions listed under FOR FURTHER INFORMATION CONTACT. The Agency will consider written withdrawal requests postmarked no later than January 3, 2005.

VI. Provisions for Disposition of Existing Stocks

Existing stocks are those stocks of registered pesticide products which are currently labeled in the United States and which have been packaged, labeled, and released for shipment prior to the effective date of the cancellation action.

The Agency intends to authorize the registrants to sell or distribute product under the previously approved labeling through December 31, 2004, after approval of the revision, unless other restrictions have been imposed, as in special review actions. Stocks in the hands of dealers and distributors other than the registrants could be sold or distributed until December 31, 2005. The Agency anticipates that use of the products proposed for cancellation will end December 31, 2006. Any future tolerance modifications would be calculated from the December 31, 2006, date. EPA will issue a Federal Register notice with the cancellation order and final existing stock provisions.

List of Subjects

Environmental protection, Pesticides and pests.

Dated: June 18, 2004.
Debra Edwards,
Director, Special Review and Reregistration Division, Office of Pesticide Programs.

[FR Doc. 04-15209 Filed 7-6-04; 8:45 am]

BILLING CODE 6560-50-S